DEPARTMENT OF ENERGY

Federal Energy Regulatory Commission

Combined Notice of Filings #1

Take notice that the Commission received the following electric rate filings:

Docket Numbers: ER22-392-002.

Applicants: El Paso Electric Company.

Description: Compliance filing: EPE Order No. 864 Compliance filing to be effective 1/1/2022.

Filed Date: 4/22/25.

Accession Number: 20250422-5171.

Comment Date: 5 p.m. ET 5/13/25.

Docket Numbers: ER24-2029-001.

Applicants: Dominion Energy South Carolina, Inc.

Description: Compliance filing: Order No. 2023 Supplemental Compliance Filing to be effective 8/1/2025.

Filed Date: 4/21/25.

Accession Number: 20250421-5159.

Comment Date: 5 p.m. ET 5/12/25.

Docket Numbers: ER25-1462-001.

Applicants: New York Independent System Operator, Inc.

Description: Compliance filing: NYISO Compliance: Canadian Import Tariffs to be effective 3/1/2025.

Filed Date: 4/22/25.

Accession Number: 20250422-5121.

Comment Date: 5 p.m. ET 5/13/25.

Docket Numbers: ER25-1546-001.

Applicants: PJM Interconnection, L.L.C.

Description: Tariff Amendment: Amendment of GIA, SA No. 7582; AG1-508 in Docket ER25-1546-000 to be effective 2/6/2025.

Filed Date: 4/22/25.

Accession Number: 20250422-5168.

Comment Date: 5 p.m. ET 5/13/25.

Docket Numbers: ER25-1632-001.

Applicants: PJM Interconnection, L.L.C.

Description: Tariff Amendment: Amendment of GIA, SA No. 7592; AE2-276 in Docket ER25-1632-000 to be effective 6/22/2025.

Filed Date: 4/22/25.

Accession Number: 20250422-5152.

Comment Date: 5 p.m. ET 5/13/25.

Docket Numbers: ER25-2010-000.

Applicants: Dover Plains Energy Properties LLC.

Description: Dover Plains Energy Properties LLC submits a Petition for Limited Waiver of New York Independent System Operator, Inc. Open Access Transmission Tariff with Request for Expedited Action.

Filed Date: 4/18/25.

Accession Number: 20250418-5253.

Comment Date: 5 p.m. ET 5/9/25.

Docket Numbers: ER25-2013-000.

Applicants: PJM Interconnection, L.L.C.

Description: § 205(d) Rate Filing: Amendment to Service Agreement No. 6768; Queue No. AF1-325 to be effective 6/22/2025.

Filed Date: 4/22/25.

Accession Number: 20250422-5028.

Comment Date: 5 p.m. ET 5/13/25.

Docket Numbers: ER25-2014-000.

Applicants: Alabama Power Company, Georgia Power Company, Mississippi Power Company.

Description: Tariff Amendment: Alabama Power Company submits tariff filing per 35.15: EDF Renewables (Double Run 2 Solar & Battery) LGIA Termination Filing to be effective 4/22/2025.

Filed Date: 4/22/25.

Accession Number: 20250422-5067.

Comment Date: 5 p.m. ET 5/13/25.

Docket Numbers: ER25-2015-000.

Applicants: NorthWestern Corporation.

Description: Tariff Amendment: Cancellation of SA 296 6th Rev. NITSA with ExxonMobil to be effective 4/23/2025.

Filed Date: 4/22/25.

Accession Number: 20250422-5109.

Comment Date: 5 p.m. ET 5/13/25.

Docket Numbers: ER25-2016-000.

Applicants: Duke Energy Carolinas, LLC.

Description: § 205(d) Rate Filing: DEC-DEC Surplus Interconnection Service Facilities Study Agreement SA. No. 699 to be effective 4/23/2025.

Filed Date: 4/22/25.

Accession Number: 20250422-5117.

Comment Date: 5 p.m. ET 5/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 22, 2025.
Carlos D. Clay,
Deputy Secretary.

[FR Doc. 2025-07241 Filed 4-25-25; 8:45 am]

BILLING CODE 6717-01-P